DEPARTMENT OF ENERGY

Federal Energy Regulatory Commission

[Docket Nos. EC01-156-000 and ER01-3154-000]

Alliant Energy Corporate Services, Inc., MidAmerican Energy Company, Xcel Energy Services, Inc., TRANSLink Transmission Company, LLC.; Notice of Filing

October 5, 2001.

Take notice that on September 28, 2001, Alliant Energy Corporate Services, et al. (Applicants), tendered for filing a Joint Application for Authorization to Transfer and Consolidate Transmission Assets To and In an Independent Transmission Company, a pro forma Lease Agreement, a pro forma Private Power Participant Operating Agreement, a pro forma Public and Cooperative Power Participant Operating Agreement, and a pro forma Asset Contribution Agreement and an open access transmission tariff (TRANSLink Tariff).

Applicants submitted an application, pursuant to Section 203 of the Federal Power Act (FPA), 16 U.S.C. 824b, for authorization to transfer control and, potentially, ownership, of certain transmission facilities to TRANSLink for the purpose of providing open access transmission service on an unbundled basis over these interconnected transmission facilities. To the extent necessary, the Applicants are also seeking authorization under Section 203 to consolidate in TRANSLink the operation of certain of the Private Power Participants' transmission facilities with those of Public Power Participants and the Cooperative Power Participant, including the planned consolidation of the Applicants' systems into a single electrical control area.

Applicants also submitted several filings under Section 205 of the FPA, 16 U.S.C. 824d. The first of these is a proposed open access transmission tariff, pursuant to which TRANSLink will provide transmission service over the interconnected transmission facilities of the Applicants within the Midwest ISO region. The proposed TRANSLink Tariff includes all ancillary service schedules included in the Order No. 888 pro forma tariff. The proposed TRANSLink Tariff includes cost of service formula rates for the recovery of TRANSLink's costs of providing transmission service, including its costs of owning, operating and maintaining those transmission facilities that are transferred to it by the Applicants as well as the management fees of the TRANSLink Corporate Manager.

Applicants have also submitted under Section 205 of the FPA a pro forma Asset Contribution Agreement, a pro forma Lease Agreement, and a pro forma Private Power Participant Agreement for the transfer of ownership or functional responsibility to TRANSLink of transmission facilities by jurisdictional public utilities. The pro forma agreements include cost of service formula rates for the calculation of the contribution fee, rental fee, or operating fee TRANSLink will pay to the respective Participant. Amounts payable under the agreement will be reflected in TRANSLink's transmission rates under the TRANSLink Tariff.

In addition, filings were made under Section 205 of the FPA by TRANSLink, as contracts affecting TRANSLink's jurisdictional rates, of a pro forma Public and Cooperative Power Participant Operating Agreement. The agreement allows transfer to TRANSLink of functional responsibility for the transmission facilities of Public Power Participants and Cooperative Power Participants that are not jurisdictional “public utilities.” The pro forma Public and Cooperative Power Participant Operating Agreement is similar to the pro forma Private Power Participant Operating Agreement, but contains provisions appropriate to recognize the special requirements and limitations applicable to non-jurisdictional Participants. It includes formulas for the recovery of the transmission revenue requirements of each such Participant. In addition to the generic form of this pro forma agreement that TRANSLink intends to make available to additional public and cooperative power participants, a second version, tailored to address the unique limitations to which public power entities in Nebraska are subject as a result of restrictions in financing arrangements and state law, was also filed.

Applicants request that the TRANSLink Tariff and the pro forma Lease Agreement, pro forma Private Power Participant Operating Agreement, pro forma Public and Cooperative Power Participant Operating Agreement, and pro forma Asset Contribution Agreement be accepted for filing effective on the date for initial commercial operations of TRANSLink, which is expected to be in the fourth quarter of 2002. The TRANSLink Participants respectfully request the Commission issue an order provisionally approving the TRANSLink rate schedules and transactions by December 31, 2001, so the transactions may be completed and TRANSLink may begin operations on the earliest possible date.

The Applicants state that this filing has been served upon all customers taking service under an existing open access transmission tariff of one of its participants.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before October 29, 2001. Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket #” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-25625 Filed 10-11-01; 8:45 am]

BILLING CODE 6717-01-P